DEPARTMENT OF LABOR

Employment and Training Administration

[TA-W-59,845]

Airtex Products, Marked Three, AR; Notice of Termination of Investigation

Pursuant to Section 221 of the Trade Act of 1974, an investigation was initiated on August 4, 2006 in response to a petition filed by the Department of Workforce Services of the State of Arkansas on behalf of workers at Airtex Products, Marked Three, Arkansas.

The petitioners have requested that the petition be withdrawn. Consequently, the investigation has been terminated.

Signed in Washington, DC, this 24th day of August 2006.
Elliott S. Kushner,
Certifying Officer, Division of Trade Adjustment Assistance.

[FR Doc. E6-14594 Filed 9-1-06; 8:45 am]

BILLING CODE 4510-30-P